DEPARTMENT OF THE TREASURY

Open Meeting of the Federal Advisory Committee on Insurance

AGENCY: Departmental Offices, Treasury.

ACTION: Notice of Open Meeting; Request for Comment.

SUMMARY: This Notice sets forth the proposed topics to be discussed for a meeting of the Department of the Treasury's Federal Advisory Committee on Insurance (FACI). The meeting is open to the public and the site is accessible to individuals with disabilities. The FACI will convene the meeting on Wednesday, November 14, 2012, at the Department of the Treasury, in the Cash Room, 1500 Pennsylvania Avenue NW., Washington, DC, 20220, beginning at 10 a.m. Eastern Time. The meeting will be open to the public.

DATES: The meeting will be held on November 14, 2012, commencing at 10 a.m. Eastern Time.

ADDRESSES: The FACI meeting will be held at the Department of the Treasury, in the Cash Room, 1500 Pennsylvania Avenue NW., Washington, DC 20220. The meeting will be open to the public. The meeting will be held in a secured facility, and members of the public who plan to attend the meeting must contact the Federal Insurance Office (Office), at (202) 622-6910, by 5 p.m. Eastern Time on Wednesday, November 7, 2012, to inform the Office of the desire to attend the meeting and to provide the following information which is required for entry into the building:

—Name

—Organization

—Date of Birth

—Social Security Number

—Country of Citizenship

FOR FURTHER INFORMATION CONTACT: James P. Brown, Senior Policy Advisor to the Federal Insurance Office, Department of the Treasury, 1425 New York Avenue NW., Room 2100, Washington, DC 20005, at (202) 622-6910 (this is not a toll-free number). Persons who have difficulty hearing or speaking may access this number via TTY by calling the toll-free Federal Relay Service at 800-877-8339.

SUPPLEMENTARY INFORMATION: Notice of this meeting is provided in accordance with the Federal Advisory Committee Act, 5 U.S.C. App. II, 10(a)(2), through implementing regulations at 41 CFR 102-3.150.

Request for Public Comments: FACI is seeking public comments on the EU-U.S. Insurance Dialogue Summary Report (Report) located at: https://eiopa.europa.eu/consultations/public-hearings/forthcoming/20121016/index.html. FACI will be discussing the Report at the November 14, 2012 meeting. In addition, the Report will be addressed during a public consultation on October 12, 2012 from 2-5 p.m. in Independence Room F-I, Grand Hyatt Washington, 1000 H Street NW., Washington, DC 20001, as part of the EU-U.S. Dialogue Project. Members of the public wishing to comment on the Report are invited to submit written statements before October 28, 2012, to the FACI by any of the following methods:

Electronic Statements

• Send electronic comments to faci@treasury.gov.

Paper Statements

• Send paper statements in triplicate to the Federal Advisory Committee on Insurance, Department of the Treasury, 1425 New York Avenue NW., Room 2100, Washington, DC 20005.

The Department of the Treasury will post all statements on its Web site http://www.treasury.gov/about/organizational-structure/offices/Pages/Federal-Insurance.aspx without change, including any business or personal information provided such as names, addresses, email addresses, or telephone numbers. The Department of the Treasury will also make such statements available for public inspection and copying in the Department of the Treasury's Library, Room 1428, Main Department Building, 1500 Pennsylvania Avenue NW., Washington, DC 20220, on official business days between the hours of 10 a.m. and 5 p.m. Eastern Time. You can make an appointment to inspect statements by telephoning (202) 622-0990. All statements received, including attachments and other supporting materials, are part of the public record and subject to public disclosure. You should submit only information that you wish to make publicly available.

Tentative Agenda/Topics for Discussion: During this periodic meeting of the FACI, members will discuss international insurance matters. Among the topics to be discussed are the EU-U.S. Insurance Dialogue and matters pending at the International Association of Insurance Supervisors.

Michael T. McRaith,
Director, Federal Insurance Office.

[FR Doc. 2012-25002 Filed 10-10-12; 8:45 am]

BILLING CODE 4810-25-P